DEPARTMENT OF THE INTERIOR

Bureau of Indian Affairs

Notice of Intent To Prepare an Environmental Impact Statement for a Proposed Drought Management Plan for Operation of the Kerr Hydroelectric Project, Flathead Lake, MT

AGENCY: Bureau of Indian Affairs, Interior.

ACTION: Notice of intent and public scoping meeting.

SUMMARY: This notice advises the public that the Bureau of Indian Affairs (BIA), intends to gather information necessary for preparing an Environmental Impact Statement (EIS) for a proposed drought management plan relating to operation of the Kerr Hydroelectric Project, Flathead Lake, Montana. This notice also announces public meetings to determine the scope of issues to be addressed in the EIS.

The purpose of this notice is to obtain suggestions and information from other agencies and the public on the scope of issues to be addressed in the EIS. Comments and participation in this scoping process are encouraged.

DATES: Meeting Dates—

1. July 9, 2002, from 6:30 p.m. to 9:30 p.m., Kalispell, Montana.

2. July 10, 2002, from 6:30 p.m. to 9:30 p.m., Charlo, Montana.

Comment Dates: Comments on the scope and implementation of this proposal must be received before July 26, 2002.

ADDRESSES: Mail or hand deliver written comments to Jeffery Loman, Chief, Division of Natural Resources, Office of Trust Responsibilities, Bureau of Indian Affairs, MS-3061, 1849 C Street NW., Washington, DC 20240. You may also fax comments to Chief, Division of Natural Resources, (202) 219-0006 or (202) 219-1255.

The first meeting will be held at the West Coast Outlaw Hotel, 1701 Highway 93 South, Kalispell, Montana.

The second meeting will be held at the Nine Pipes Lodge, 4100 Highway 93, Charlo, Montana.

FOR FURTHER INFORMATION CONTACT: Jeffery Loman, Chief, Division of Natural Resources, Office of Trust Responsibilities, Bureau of Indian Affairs, MS: 3061, 1849 C St., NW., Washington, DC 20240, (202) 208-7373.

SUPPLEMENTARY INFORMATION: Flathead Lake is the largest natural fresh water lake in the western United States. It is home to the Confederated Salish and Kootenai Tribes of the Flathead Nation, whose Reservation encompasses an area including approximately the southern half of Flathead Lake. Flathead Lake is regulated by the operation of Kerr Dam, located at River Mile 72.0 at Polson, Montana. The Kerr Dam and Hydroelectric Project is located inside the exterior boundaries of the Flathead Indian Reservation and operates under a joint license issued by FERC on July 17, 1985 to PPL Montana, LLC, successor-in-interest to the Montana Power Company, and the Confederated Salish and Kootenai Tribes. The license has been amended several times since initial issuance.

Section 4(e) of the Federal Power Act authorizes the Secretary of the Interior to include conditions in hydropower licenses for the protection and utilization of Indian reservations. Under this authority, the Secretary of the Interior required that certain articles be included in the Kerr Project license for the protection and utilization of the Flathead Indian Reservation. Among these license articles are Article 56, which requires minimum instream flow rates for the protection of fisheries and other resources in the Lower Flathead River below Kerr Dam and Article 60, which requires the development and implementation of a drought management plan.

In addition, as set forth in Article 43, the Kerr Project is currently operated for flood control according to a 1962 Memorandum of Understanding, as amended, between PPL Montana, LLC, successor-in-interest to the Montana Power Company, and the U.S. Army Corps of Engineers.

During low water years, conflicts may occur between the minimum instream flow requirements of Article 56 and these flood control requirements. The drought management plan required by Article 60 is to resolve such potential conflicts.

The proposed action is to meet the requirements of Article 60 of the Kerr Hydroelectric Project license, issued by the Federal Energy Regulatory Commission (FERC). Article 60 calls for the development and implementation of a drought management plan by the licensees in consultation with the U.S. Army Corps of Engineers, U.S. Bureau of Reclamation, Bureau of Indian Affairs and Montana Department of Environmental Quality. Article 60 also requires that the drought management plan include a re-evaluation and adjustment of flood control requirements and other provisions necessary for compliance with lower Flathead River minimum instream flow mandates. PPL Montana, LLC, current operator of the Kerr Project, submitted a proposed drought management plan to the Secretary of the Interior on March 4, 2002. Under Article 60, the Secretary of the Interior has the authority to reject, modify, or otherwise alter the proposed drought management plan.

The Bureau of Indian Affairs has been delegated the responsibility to serve as the Lead Agency for National Environmental Policy Act compliance in connection with the proposed drought management plan. Issues to be addressed in the environmental analysis include, but are not limited to, hydroelectric power production, recreation, tourism, irrigation and farming, treaty-protected fisheries, biological resources, wildlife habitat, and Indian traditional and cultural properties and resources.

Alternatives to the proposed drought management plan to be examined in the EIS may include a variety of measures, such as adjustments to flood control rule curves, implementation of advanced climate prediction initiatives, and deviation from minimum instream flow requirements. The range of environmental issues and alternatives will be further developed based upon comments received during the scoping process.

Authority

This notice is published in accordance with section 1501.7, Council on Environmental Quality Regulations (40 CFR Parts 1500 through 1508) implementing the procedural requirements of the National Environmental Policy Act of 1969, as amended (42 U.S.C. 4321 et seq.) and the Department of the Interior Manual (516 DM 1.6) and is within the exercise of authority delegated to the Assistant Secretary—Indian Affairs by 209 DM 8.1.

Dated: June 17, 2002.
Neal A. McCaleb,
Assistant Secretary—Indian Affairs.

[FR Doc. 02-15628 Filed 6-19-02; 8:45 am]

BILLING CODE 4310-5M-P